DEPARTMENT OF COMMERCE

National Telecommunications and Information Administration

First Responder Network Authority Board Meeting

AGENCY: National Telecommunications and Information Administration, U.S. Department of Commerce.

ACTION: Notice of open public meeting.

SUMMARY: The National Telecommunications and Information Administration (NTIA) will convene an open public meeting of the Board of the First Responder Network Authority (FirstNet).

DATES: The meeting will be held on October 17, 2013, from 9 a.m. to 12:30 p.m. Pacific Daylight Time.

ADDRESSES: Board members will meet in the Cedar Room of the Crowne Plaza-Concord/Walnut Creek Hotel, 45 John Glenn Drive, Concord, California 94520-5604.

FOR FURTHER INFORMATION CONTACT: Uzoma Onyeije, Secretary, FirstNet, National Telecommunications and Information Administration, U.S. Department of Commerce, 1401 Constitution Avenue NW., Washington, DC 20230: telephone (202) 482-0016; email uzoma@firstnet.gov. Please direct media inquiries to NTIA's Office of Public Affairs, (202) 482-7002.

SUPPLEMENTARY INFORMATION: This notice informs the public that the FirstNet Board has scheduled a meeting on October 17, 2013, in Concord, California.¹

¹ On November 9, 2012, NTIA published a notice in the Federal Register noting that a public meeting of the FirstNet Board would be held on October 15, 2013, in Washington, DC See First Responder Network Authority Board Meeting, Notice of Open Public Meetings, 77 FR 67342 (Nov. 9, 2012). This notice provides an update to the correct date, time, and location information for the Board's October 2013 meeting.

Background: The Middle Class Tax Relief and Job Creation Act of 2012 (Act), Public Law 112-96, 126 Stat. 156 (2012), created the First Responder Network Authority (FirstNet) as an independent authority within the National Telecommunications and Information Administration (NTIA). The Act directs FirstNet to establish a single nationwide, interoperable public safety broadband network. The FirstNet Board is responsible for making strategic decisions regarding FirstNet's operations. The FirstNet Board held its first public meeting on September 25, 2012.

Matters To Be Considered: NTIA will post a detailed agenda on its Web site, http://www.ntia.doc.gov, prior to the meeting on October 17. The agenda topics are subject to change. The Board may, by a majority vote, close a portion of the meeting as necessary to preserve the confidentiality of commercial or financial information that is privileged or confidential, to discuss personnel matters, or to discuss legal matters affecting FirstNet, including pending or potential litigation. See 47 U.S.C. 1424(e)(2).

Time and Date: The meeting will be held on October 17, 2013, from 9 a.m. to 12:30 p.m. Pacific Daylight Time. The time is subject to change.

Place: Board members will meet in the Cedar Room of the Crowne Plaza-Concord/Walnut Creek Hotel, 45 John Glenn Drive, Concord, California 94520-5604.

Other Information: The meeting is open to the public and press. Given the space limitations of the meeting room, members of the public wishing to attend the meeting in person will be directed to the Pine Room in the Crowne Plaza-Concord/Walnut Creek Hotel, 45 John Glenn Drive, Concord, California 94520-5604, where they can observe the meeting by video. The meeting is accessible to people with disabilities. Individuals requiring accommodations, such as sign language interpretation or other ancillary aids, are asked to notify Uzoma Onyeije, Secretary, FirstNet, at (202) 482-0016 or uzoma@firstnet.gov at least five (5) business days before the meeting.

The meeting will also be webcast. Please refer to NTIA's Web site at http://www.ntia.doc.gov/firstnet-public-meetings for webcast instructions and other information. If you have technical questions regarding the webcast, please contact Charles Franz at cfranz@ntia.doc.gov. Access details for this meeting are subject to change.

Records: NTIA maintains records of all Board proceedings. Board minutes will be available at http://www.ntia.doc.gov/firstnet-public-meetings.

Dated: September 17, 2013.
Kathy D. Smith,
Chief Counsel.

[FR Doc. 2013-22946 Filed 9-19-13; 8:45 am]

BILLING CODE 3510-60-P